DEPARTMENT OF TRANSPORTATION

National Highway Traffic Safety Administration

[U.S. DOT Docket Number NHTSA-2010-0065]

Reports, Forms, and Recordkeeping Requirements

AGENCY: National Highway Traffic Safety Administration (NHTSA), Department of Transportation.

ACTION: Request for public comment on proposed collection of information.

SUMMARY: Before a Federal agency can collect certain information from the public, it must receive approval from the Office of Management and Budget (OMB). Under procedures established by the Paperwork Reduction Act of 1995, before seeking OMB approval, Federal agencies must solicit public comment on proposed collections of information, including extensions and reinstatement of previously approved collections. This document describes one collection of information for which NHTSA intends to seek OMB approval.

DATES: Comments must be received on or before August 9, 2010.

ADDRESSES: Direct all written comments to the U.S. Department of Transportation Dockets, 1200 New Jersey Ave., SE., W46-474, Washington, DC 20590. Docket No. NHTSA-2010-0065.

FOR FURTHER INFORMATION CONTACT: Angela Eichelberger, Ph.D., Office of Behavioral Safety Research (NTI-132), 1200 New Jersey Avenue, SE., Washington, DC 20590. Dr. Eichelberger's telephone number is (202) 366-5586 and her e-mail is angela.eichelberger@dot.gov.

SUPPLEMENTARY INFORMATION: Under the Paperwork Reduction Act of 1995, before an agency submits a proposed collection of information to OMB for approval, it must publish a document in the Federal Register providing a 60-day comment period and otherwise consult with members of the public and affected agencies concerning each proposed collection of information. The OMB has promulgated regulations describing what must be included in such a document.

Under OMB's regulations (at 5 CFR 1320.8(d)), an agency must ask for public comment on the following:

(i) Whether the proposed collection of information is necessary for the proper performance of the functions of the agency, including whether the information will have practical utility;

(ii) The accuracy of the agency's estimate of the burden of the proposed collection of information, including the validity of the methodology and assumptions used;

(iii) How to enhance the quality, utility, and clarity of the information to be collected; and

(iv) How to minimize the burden of the collection of information on those who are to respond, including the use of appropriate automated, electronic, mechanical, or other technological collection techniques or other forms of information technology, e.g., permitting electronic submission of responses.

In compliance with these requirements, NHTSA asks for public comments on the following proposed collections of information:

Title: National Child Restraint Use Special Study (NCRUSS).

Type of Request: Reinstatement with change of a previously approved collection.

OMB Control Number: 2127-0577.

Form Number: This collection of information uses no standard forms.

Requested Expiration Date of Approval: 3 years from the date of OMB approval (estimated March 30, 2014).

Summary of the Collection of Information: The National Highway Traffic Safety Administration (NHTSA) proposes to collect observational data on correct and incorrect use of child restraint systems in passenger vehicles, as well as interview information from drivers about their knowledge and perceptions of child restraint systems. The primary population for observation will be restrained and unrestrained child passengers riding in any seating position in passenger vehicles. Participation in the study will be voluntary. Interviews with drivers who agree to participate will be used to obtain the following data: demographic information on occupants, the driver's knowledge about the specific CRS in the vehicle, and the driver's general knowledge and experience with different types of restraint systems. While the interview is being conducted, a trained observer will collect information about the CRS in the vehicle, including the type of restraint that is used, the type of installation (seat belt or LATCH), how the CRS is installed, harness use, and seat belt fit. The observer will not remove the child or CRS from the vehicle. At the conclusion of the survey, respondents will receive information on child passenger safety and specific information regarding the locations of inspection stations and seat check events that are available in the area.

Description of the Need for the Information and Proposed Use of the Information: The National Highway Traffic Safety Administration (NHTSA) was established by the Highway Safety Act of 1966 (23 U.S.C. 101) to carry out a Congressional mandate to reduce the mounting number of deaths, injuries and economic losses resulting from motor vehicle crashes on our Nation's highways. In support of this mission, NHTSA proposes to conduct information collections to assess the levels of child restraint system use and misuse for children riding in passenger vehicles, and to examine whether the levels of use and/or misuse are related to any specific characteristics of the drivers, their passengers and/or their vehicles. Previous studies have shown that there is a gap between recommended child restraint use and observed use. Actions have been taken by NHTSA to close the gap. In March 1999, NHTSA published a final rule establishing a uniform child restraint attachment system known as LATCH, Lower Anchors and Tethers for Children (Federal Motor Vehicles Safety Standard 213, Child Restraint Systems and FMVSS 225, Child Restraint Anchorage Systems), in order to provide another, easier method of attaching a child restraint to the vehicle. This new collection of data is necessary in order to evaluate the effectiveness of FMVSS 225 and FMVSS 213, as well as to obtain an up to date snapshot of child restraint use and misuse across the United States. This information will be used in assessing what additional actions NHTSA should take to improve child passenger safety. In addition, NTHSA will publish the findings of this research study to provide information to States, localities, and other interested organizations in support of their efforts to reduce and prevent injuries among child occupants.

Description of the Likely Respondents (Including Estimated Number, and Proposed Frequency of Response to the Collection of Information): NHTSA anticipates conducting approximately 5,000 observations of children in passenger vehicles and interviews with the drivers of these vehicles. Data collection is expected to take place over a 3-5 month period in the spring and summer of 2011. To minimize the survey start-up cost and to provide a trained cadre of data collectors, field data collection will be conducted through the infrastructure of the National Automotive Sampling System (NASS) Crashworthiness Data System (CDS). The NASS CDS consists of 24 Primary Sampling Units (PSUs) that are a probability sample selected from a sample frame of 1,195 PSUs across the United States. The NASS PSUs are used to obtain a nationally representative probability sample of police reported crashes in the U.S. Within each PSU, drivers will be approached at specific types of locations where children are likely to be riding in a passenger vehicle. Data collection sites may include gas stations, fast food restaurants, shopping centers, hospitals/clinics, and/or day care centers.

Estimate of the Total Annual Reporting and Record Keeping Burden Resulting from the Collection of Information: Each of the 5,000 interview/observation sessions will last 15 minutes including the initial screening. Therefore, the estimated annual burden is 1,250 hours. The respondents would not incur any reporting cost from the information collection. The respondents also would not incur any record keeping burden or record keeping cost from the information collection. Additionally, respondents would receive information on child passenger safety and a list of inspection stations where they may choose to have their child restraint system inspected. Consequently, the respondent is potentially receiving benefit in return for his/her participation.

Authority: 44 U.S.C. Section 3506(c)(2)(A).

Jeff Michael,
Associate Administrator, Research and Program Development.

[FR Doc. 2010-13857 Filed 6-8-10; 8:45 am]

BILLING CODE 4910-59-P